DEPARTMENT OF THE INTERIOR

Bureau of Land Management

[ID-080-1030-PH]

Notice of Public Meeting, Upper Columbia-Salmon Clearwater Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Columbia-Salmon Clearwater (UCSC) District Resource Advisory Council (RAC) will meet as indicated below.

DATES: November 12 and 13, 2003. The meeting will begin at 1 a.m. on the first day and end at approximately 2 p.m. on the second day. The public comment period will be from 11-12 p.m. on November 13th. The meeting will be held at the Grant Creek Inn, 5280 Grant Creek Road, Missoula, Montana, because Missoula is centrally located for Council members traveling from the northern and south-central parts of Idaho.

FOR FURTHER INFORMATION CONTACT: Stephanie Snook, RAC Coordinator, BLM UCSC District, 1808 N. Third Street, Coeur d'Alene, Idaho 83814 or telephone (208) 769-5004.

SUPPLEMENTARY INFORMATION: The 15-member Council advises the Secretary of the Interior, through the Bureau of Land Management, on a variety of planning and management issues associated with public land management in Idaho. The following topics will be discussed at the November 12 and 13, 2003 meeting:

• RAC orientation, BLM/RAC 2003 overview, development of Annual Work Plan, and election of officers.

• Off-highway Vehicles (subgroup report), Wild Horse Program, and other natural resource issues.

• Updates on the Idaho BLM organizational changes.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided above.

Dated: October 6, 2003.
Fritz U. Rennebaum,
District Manager.

[FR Doc. 03-25698 Filed 10-9-03; 8:45 am]

BILLING CODE 4310-GG-P